DEPARTMENT OF COMMERCE

International Trade Administration

[A-570-822]

Certain Helical Spring Lock Washers from the People's Republic of China: Notice of Extension of Time Limit for the Final Results of the Administrative Review

AGENCY: Import Administration, International Trade Administration, Department of Commerce.

SUMMARY: The Department of Commerce is extending the time limit for the final results of the seventh administrative review of the antidumping duty order on certain helical spring lock washers from the People's Republic of China. The period of review is October 1, 1999 through September 30, 2000.

EFFECTIVE DATE: November 15, 2001.

FOR FURTHER INFORMATION CONTACT: Sally Hastings or Craig Matney, Office of AD/CVD Enforcement I, Import Administration, U.S. Department of Commerce, 14th Street and Constitution Avenue, NW., Washington, DC 20230; telephone (202) 482-3464 or (202) 482-1778, respectively.

SUPPLEMENTAL INFORMATION:

Applicable Statute

Unless otherwise indicated, all citations to the statute are references to the provisions effective January 1, 1995, the effective date of the amendments made to the Tariff Act of 1930 (the Act) by the Uruguay Round Agreements Act. Unless otherwise indicated, all citations to the Department of Commerce's (the Department's) regulations are to 19 CFR part 351 (2000).

Background

On July 11, 2001, the Department published in the Federal Register the preliminary results of its administrative review of helical spring lock washers (“HSLWs”) from the People's Republic of China (“PRC”) (Certain Helical Spring Lock Washers from the People's Republic of China; Preliminary Results of Antidumping Duty Administrative Review, 66 FR 36251 (July 11, 2001) (“Preliminary Results”). The final results are currently due on November 8, 2001.

Statutory Time Limits

Section 751(a)(3)(A) of the Act requires the Department to issue the final results within 120 days of the publication of the preliminary results of the review. However, section 751(a)(3)(A) of the Act allows the Department to extend this deadline to a maximum of 180 days.

Postponement

Because additional time is necessary to analyze data used in the calculation of normal value, the Department has determined that it is not practicable to issue the final results within the original time period. Therefore, in accordance with section 751(a)(3)(A) of the Act, we are postponing the final results of this administrative review for 180 days, until no later than May 7, 2002.

This notice is published pursuant to sections 751(a)(1) and 777(i)(1) of the Act.

Dated: November 8, 2001.
Richard W. Moreland,
Deputy Assistant Secretary for Import Administration.

[FR Doc. 01-28650 Filed 11-14-01; 8:45 am]

BILLING CODE 3510-DS-P